DEPARTMENT OF INTERIOR

Bureau of Land Management

[WO-120-04-1630-PD]

Reopening of Comment Period for Proposed Supplementary Rules for the Public Lands Administered by the Bureau of Land Management in Nevada Relating to the Unlawful Use of Alcohol and Drugs

AGENCY: Bureau of Land Management, Interior.

ACTION: Proposed Supplementary Rules: reporting of comment period.

SUMMARY: The Bureau of Land Management (BLM) proposed supplementary rules for application to the public lands within the State of Nevada. The rules relate to the illegal use of alcohol and drugs on public lands. The BLM needs supplementary rules to protect natural resources and the health and safety of public land users. This notice reopens the comment period on these rules.

DATES: Send your comments to BLM by September 30, 2004.

ADDRESSES: Send your comments to Erika Schumacher, BLM, 1340 Financial Blvd., Reno, NV 89502. In developing final rules, the BLM may not consider comments postmarked or received in person after September 30, 2004.

FOR FURTHER INFORMATION CONTACT: Erika Schumacher, State Staff Ranger, Reno, Nevada at (775) 861-6621.

SUPPLEMENTARY INFORMATION: This notice extends the comment period on the Proposed Supplementary Rules for Public Lands Administered by the BLM in Nevada relating to the unlawful use of alcohol and drugs. The proposed rule was published in the Federal Register on Monday, May 3, 2004 (69 FR 24185). The State of Nevada asked BLM to extend the comment period to allow local law enforcement officials to gain a better understanding of the intent of the rule. The BLM will now accept comments on this proposed supplementary rule until September 30, 2004.

Robert V. Abbey,
State Director, Nevada.

[FR Doc. 04-16173 Filed 7-15-04; 8:45 am]

BILLING CODE 4310-84-M